DEPARTMENT OF DEFENSE

Office of the Secretary

[Docket ID: DoD-2022-OS-0069]

Proposed Collection; Comment Request

AGENCY: Office of the Under Secretary of Defense for Acquisition and Sustainment (OUSD(A&S)), Department of Defense (DoD).

ACTION: 60-Day information collection notice.

SUMMARY: In compliance with the Paperwork Reduction Act of 1995, the Defense Logistics Agency (DLA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 9, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Logistics Agency Energy, 8725 John J. Kingman Road, Fort Belvoir, Virginia 22060-6222, ATTN: Mr. Jeffrey Pokomo, or call 703-832-5480.

SUPPLEMENTARY INFORMATION:

Title; Associated Form; and OMB Number: DLA Energy Request for Customer QR Code; DLA Energy Form 2063; OMB Control Number 0704-DLQR.

Needs and Uses: DoD Manual 4140.25 authorizes customers to use several purchase media methods to buy fuel from DLA Energy. DLA Energy P-29 provides DLA Energy customers the use of one of these methods called a customer QR code. DLA Energy customers fill out DLA Energy Form 2063 and provide point of contact, delivery address, equipment billing and equipment attribute information needed to verify and create a Customer QR code.

Affected Public: Business or other for-profit.

Annual Burden Hours: 730.

Number of Respondents: 730.

Responses per Respondent: 1.

Annual Responses: 1.

Average Burden per Response: 1 hour.

Frequency: On occasion.

Dated: June 2, 2022.
Aaron T. Siegel,
Alternate OSD Federal Register Liaison Officer, Department of Defense.

[FR Doc. 2022-12489 Filed 6-9-22; 8:45 am]

BILLING CODE 5001-06-P